ENVIRONMENTAL PROTECTION AGENCY

[EPA-HQ-OPP-2017-0617; FRL-9977-37]

FIFRA Scientific Advisory Panel; Notice of 4-Day In-Person Meeting Location; Notice of Public Preparatory Webcast Meeting; Request for Comments on Prospective Candidate Ad Hoc Reviewers; Extension of Written Comment Periods

AGENCY: Environmental Protection Agency (EPA).

ACTION: Notice.

SUMMARY: The July 17-20, 2018, in-person meeting of the Federal Insecticide, Fungicide, and Rodenticide Act Scientific Advisory Panel (FIFRA SAP) to consider and review Resistance of Lepidopteran Pests to Bacillus thuringiensis (Bt) Plant Incorporated Plants in the U.S will be held in the Rosslyn Ballroom at the Holiday Inn Rosslyn at Key Bridge, 1900 North Fort Myer Drive, Arlington, VA 22209. For additional information on this in-person meeting, please refer to the March 5, 2018 Federal Register (FRL-9971-35). There will be a 2-hour preparatory webcast meeting on June 5, 2018 to consider and review the scope and clarity of the draft charge questions before the July 17-20, 2018 meeting. In addition, the EPA is announcing and inviting comments on the experts currently under consideration as prospective candidates for ad hoc participation in this review.

DATES: The preparatory webcast meeting will be held on June 5, 2018, from approximately 2 p.m. to 4 p.m. (EDT). This is an open public meeting that will be conducted via webcast using Adobe Connect and telephone. Registration is required to participate during this meeting. Please visit: http://www.epa.gov/sap to register.

The EPA is extending the written public comment period for the June 5 preparatory webcast until June 1, 2018 and the July 17-20 in-person meeting until June 18, 2018.

Comments. Written comments on the experts currently under consideration as prospective candidates for ad hoc participation in this review should be submitted on or before May 31, 2018. Written comments for the preparatory webcast meeting should be submitted on or before June 1, 2018 and June 18, 2018 for the in-person meeting. FIFRA SAP may not be able to fully consider written comments submitted after the respective due dates previously listed. Requests to make oral comments should be submitted on or before May 24, 2018 by contacting the Designated Federal Official (DFO) listed under FOR FURTHER INFORMATION CONTACT. For additional instructions, see Unit I.C. of the SUPPLEMENTARY INFORMATION.

ADDRESSES:

Meeting: The July 17-20, 2018 in-person meeting will be held at the Holiday Inn Rosslyn at Key Bridge, Rosslyn Ballroom, 1900 North Fort Myer Drive, Arlington, VA 22209.

Comments. Submit your comments, identified by docket identification (ID) number EPA-HQ-OPP-2017-0617, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Tamue L. Gibson, DFO, Office of Science Coordination and Policy (7201M), Environmental Protection Agency, 1200 Pennsylvania Ave. NW, Washington, DC 20460-0001; telephone number: 202-564-7642; email address: gibson.tamue@epa.gov.

Special accommodations. For information on access or services for individuals with disabilities, and to request accommodation of a disability, please contact the DFO at least 10 days prior to the meeting to allow EPA time to process your request.

SUPPLEMENTARY INFORMATION:

I. General Information

A. Does this action apply to me?

This action is directed to the public in general. This action may be of interest to persons who are or may be required to conduct testing of chemical substances under the Federal Food, Drug, and Cosmetic Act (FFDCA) and FIFRA. Since other entities may also be interested, the Agency has not attempted to describe all the specific entities that may be affected by this action.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see the commenting tips at http://www.epa.gov/dockets/comments.html.

C. How may I participate in this meeting?

You may participate in this meeting by following the instructions in this unit. To ensure proper receipt by EPA, it is imperative that you identify docket ID number EPA-HQ-OPP-2017-0617 in the subject line on the first page of your request.

1. Written comments. Written comments on the experts currently under consideration as prospective candidates for ad hoc participation in this review should be submitted on or before May 31, 2018. Written comments for both the preparatory webcast and in-person meetings should be submitted, using the instructions in ADDRESSES and Unit I.B., on or before June 1, 2018 (preparatory webcast) and June 18, 2018 for the in-person meeting, to provide FIFRA SAP the time necessary to consider and review the written comments. The FIFRA SAP may not be able to fully consider written comments submitted after the respective due dates listed above.

2. Oral comments. Registration is required to participate in the June 5 preparatory webcast meeting. Please visit: http://www.epa.gov.sap to register. Each individual or group wishing to make brief oral comments to FIFRA SAP during the preparatory webcast should submit their request by registering with the DFO listed under FOR FURTHER INFORMATION CONTACT on or before noon May 24, 2018. Oral comments before FIFRA SAP during the preparatory webcast are limited to approximately 5 minutes due to the time constraints of this webcast.

The Agency encourages each individual or group wishing to make brief oral comments to FIFRA SAP during the in-person meeting to submit their request to the DFO listed under FOR FURTHER INFORMATION CONTACT on or before May 24, 2018, to be included on the meeting agenda. Requests to present oral comments during the in-person meeting will be accepted until the date of the meeting and, to the extent that time permits, the Chair of FIFRA SAP may permit the presentation of oral comments at the meeting by interested persons who have not previously requested time. Oral comments during the in-person meeting are limited to approximately 5 minutes unless arrangements have been made prior to May 24, 2018. The request should identify the name of the individual making the presentation, the organization (if any) the individual will represent, and any requirements for audiovisual equipment. In addition, each speaker should bring 15 copies of his or her oral remarks and presentation slides (if required) for distribution to FIFRA SAP at the meeting by the DFO.

3. Webcast. The June 5 preparatory meeting will be webcast only. Please refer to the FIFRA SAP website at http://www.epa.gov/sap for information on how to access the webcast. Registration is required.

II. Background

A. Purpose of FIFRA SAP Preparatory Webcast

FIFRA SAP serves as a primary scientific peer review mechanism of EPA's Office of Chemical Safety and Pollution Prevention (OCSPP) and is structured to provide scientific advice, information and recommendations to the EPA Administrator on pesticides and pesticide-related issues as to the impact of regulatory actions on health and the environment. FIFRA SAP is a Federal advisory committee established in 1975 under FIFRA that operates in accordance with requirements of the Federal Advisory Committee Act (5 U.S.C. Appendix). FIFRA SAP is composed of a permanent panel consisting of seven members who are appointed by the EPA Administrator from nominees provided by the National Institutes of Health and the National Science Foundation. The FIFRA SAP is assisted in their reviews by ad hoc participation from the Science Review Board (SRB). As a scientific peer review mechanism, FIFRA SAP provides comments, evaluations, and recommendations to improve the effectiveness and quality of analyses made by Agency scientists. The FIFRA SAP is not required to reach consensus in its recommendations to the Agency.

B. Public Meeting

During the preparatory webcast meeting scheduled for June 5, 2018, the FIFRA SAP will review and consider the scope and clarity of the Charge Questions for the Panel's July 17-20, 2018 Meeting on the Resistance of Lepidopteran Pests to Bacillus thuringiensis (Bt) Plant Incorporated Protectants in the United States. The SAP will receive a short background briefing on lepidopteran adaptation to Bt toxins in the U.S., including the EPA's assessment as to whether it is warranted scientifically to develop a resistance management plan for western bean cutworm. In addition, the panel members will have the opportunity to comment on the scope and clarity of the draft charge questions. Subsequent to this webcast, final charge questions will be provided for the FIFRA SAP's deliberation on the white paper, and supplemental information during the in-person meeting to be held July 17-20, 2018.

C. FIFRA SAP Documents and Meeting Minutes

EPA's background paper, charge/questions to FIFRA SAP, and related supporting materials will be available in early May. In addition, a list of prospective candidates currently under consideration for ad hoc participation in this review is now available for public comment until May 31, 2018. You may obtain electronic copies of most meeting documents, including FIFRA SAP composition (i.e., members and ad hoc members for this meeting) and the meeting agenda, at http://www.regulations.gov and the FIFRA SAP website at http://www.epa.gov/sap.

Authority: 7 U.S.C. 136 et. seq.; 21 U.S.C. 301 et seq.

Dated: May 8, 2018.
Stanley Barone Jr.,
Acting Director, Office of Science Coordination and Policy.

[FR Doc. 2018-10577 Filed 5-16-18; 8:45 am]

BILLING CODE 6560-50-P